DEPARTMENT OF HEALTH AND HUMAN SERVICES

Meeting of the Advisory Committee on Blood Safety and Availability

AGENCY: Office of the Assistant Secretary for Health, Office of the Secretary, Department of Health and Human Services.

ACTION: Notice.

SUMMARY: As stipulated by the Federal Advisory Committee Act, the U.S. Department of Health and Human Services is hereby giving notice that the Advisory Committee on Blood Safety and Availability (ACBSA) will hold a meeting. The meeting will be open to the public.

DATES: The meeting will take place Thursday, November 4, and Friday, November 5, 2010, from 8:30 a.m. to 5 p.m.

ADDRESSES: The Universities at Shady Grove, 9630 Gudelsky Drive, Rockville, Maryland 20850, Phone: 301-738-6000.

FOR FURTHER INFORMATION CONTACT: Jerry A. Holmberg, PhD, Executive Secretary, Advisory Committee on Blood Safety and Availability, Office of the Assistant Secretary for Health, Department of Health and Human Services, 1101 Wootton Parkway, Suite 250, Rockville, MD 20852, (240) 453-8803, FAX (240) 453-8456, e-mail ACBSA@hhs.gov.

SUPPLEMENTARY INFORMATION: The Advisory Committee on Blood Safety and Availability provides advice to the Secretary and the Assistant Secretary for Health on a range of policy issues that includes (1) definition of public health parameters around safety and availability of the blood supply and blood products, (2) broad public health, ethical and legal issues related to transfusion and transplantation safety, and (3) the implications for safety and the availability of various economic factors affecting product cost and supply.

In keeping with its established mission, the ACBSA will be asked to review and comment on previous ACBSA recommendations including elements of a strategic plan for transfusion and transplantation safety. The review is intended to align the transfusion and transplantation safety initiatives to the Secretary's Strategic Initiatives and Key Inter-Agency Collaborations: (http://www.hhs.gov/secretary/about/secretarialstrategicinitiatives2010.pdf).

The Committee will also be asked to comment and make recommendations on prioritizing previous and outstanding recommendations in light of the Assistant Secretary for Health's mission statement: “Mobilizing Leadership in Science and Prevention for a Healthier Nation” and strategic priorities: Creating Better Systems of Prevention; Eliminating Health Disparities and Achieving Health Equity; and Making Healthy People Come Alive for all Americans.

The public will have opportunity to present their views to the Committee on both meeting days. A public comment session has been scheduled for November 5, 2010. Comments will be limited to five minutes per speaker and must be pertinent to the discussion. Pre-registration is required for participation in the public comment session. Any member of the public who would like to participate in this session is encouraged to contact the Executive Secretary at his/her earliest convenience to register for time (limited to 5 minutes) and registration must be prior to close of business on November 3, 2010. It is requested that those who wish to have printed material distributed to the Committee provide thirty (30) copies of the document to the Executive Secretary, ACBSA, prior to close of business on November 3, 2010. If it is not possible to provide 30 copies of the material to be distributed, then individuals are requested to provide at a minimum one (1) copy of the document(s) to be distributed prior to the close of business on November 3, 2010. It also is requested that any member of the public who wishes to provide comments to the Committee utilizing electronic data projection submit the necessary material to the Executive Secretary prior to close of business on November 3, 2010. Electronic comments must adhere to disability accessibility guidelines (Section 508 compliance).

Dated: September 28, 2010.
Richard A. Henry,
Deputy Executive Secretary, Advisory Committee on Blood Safety and Availability.

[FR Doc. 2010-24735 Filed 10-1-10; 8:45 am]

BILLING CODE 4150-41-P